DEPARTMENT OF THE INTERIOR

Bureau of Land Management

[AZ-956-05-1420-BJ]

Notice of Filing of Plats of Survey; Arizona

AGENCY: Bureau of Land Management, Interior.

ACTION: Notice.

SUMMARY: The plats of survey described below are scheduled to be officially filed in the Arizona State Office, Bureau of Land Management, Phoenix, Arizona, (30) thirty calendar days from the date of this publication.

SUPPLEMENTARY INFORMATION:

The Gila and Salt River Meridian, Arizona

The plat representing the dependent resurvey of a portion of the subdivisional lines, the subdivision of sections 8 and 17, and metes-and-bounds survey in section 8, Township 13 North, Range 3 East, accepted January 24, 2005, and officially filed January 28, 2005, for Group 914 Arizona.

This plat was prepared at the request of the United States Forest Service.

The plat (2 sheets) representing the dependent resurvey of a portion of the subdivisional lines and portions of the subdivision lines within section 22, and metes-and-bounds surveys in section 22, Township 6 North, Range 5 East, accepted May 6, 2005, and officially filed May 12, 2005, for Group 930 Arizona.

This plat was prepared at the request of the United States Forest Service.

The plat (5 sheets) representing the dependent resurvey of the fifth standard parallel north (south boundary), a portion of the subdivisional lines, the subdivision of sections 25, 26, 27, 33 and 34 and metes-and-bounds surveys in certain sections, Townships 21 North, Range 8 East, accepted March 4, 2005, and officially filed March 11, 2005 for Group 894 Arizona.

This plat was prepared at the request of the National Park Service

The plat representing the dependent resurvey of a portion of the north boundary, and a portion of the subdivisional lines, and the subdivision of sections 2 and 10, Township 27 North, Range 8 East, accepted March 31, 2005, and officially filed April 6, 2005 for Group 941 Arizona.

This plat was prepared at the request of the Bureau of Indian Affairs, Navajo Regional Office.

The plat (3 sheets) representing the dependent resurvey of the east, south and west boundaries, and the subdivisional lines, and a portion of the boundary, Management District No. 6, Hopi Indian Reservation, Township 26 North, Range 15 East, accepted January 4, 2005, and officially filed January 14, 2005 for Group 892 Arizona.

This plat was prepared at the request of the Bureau of Indian Affairs, Western Region Office and Hopi.

The plat (3 sheets) representing the dependent resurvey of a portion of the east and west boundaries, and a portion of the subdivisional lines, Township 31 North, Range 18 East, accepted January 14, 2005, and officially filed January 21, 2005 for Group 896 Arizona.

This plat was prepared at the request of the Bureau of Indian Affairs, Western Region Office and Hopi.

The plat (2 sheets) representing the dependent resurvey of a portion of the south boundary and the survey of the east boundary and the subdivisional lines, Township 26 North, Range 21 East, accepted January 31, 2005 and officially filed February 4, 2005 for Group 898 Arizona.

This plat was prepared at the request of the Bureau of Indian Affairs, Western Region and Navajo Regional Office.

The plat (3 sheets) representing the dependent resurvey of a portion of the fifth guide meridian east (west boundary) and a portion of the Hopi-Navajo partition line, segment “B”, and the survey of the south, east, and north boundaries, and the subdivisional lines, Township 27 North, Range 21 East, accepted May 2, 2005 and officially filed May 10, 2005 for Group 895 Arizona.

This plat was prepared at the request of the Bureau of Indian Affairs, Western Region and Navajo Regional Office.

The plat representing the dependent resurvey of the sixth standard parallel north (south boundary), the east, west and north boundaries, and the survey of the subdivisional lines, Township 25 North, Range 26 East, accepted March 29, 2005, and officially filed April 5, 2005 for Group 886 Arizona.

This plat was prepared at the request of the Bureau of Indian Affairs, Navajo Regional Office.

The plat (2 sheets) representing the dependent resurvey of the east and west boundaries, and a portion of the subdivisional lines, and the survey of a portion of the subdivisional lines, Township 26 North, Range 26 East, accepted April 20, 2005, and officially filed April 28, 2005 for Group 886 Arizona.

This plat was prepared at the request of the Bureau of Indian Affairs, Navajo Regional Office.

The plat representing the dependent resurvey of the west boundary, Township 22 North, Range 27 East, accepted March 22, 2005, and officially filed March 29, 2005 for Group 886 Arizona.

This plat was prepared at the request of the Bureau of Indian Affairs, Navajo Regional Office.

The plat representing the dependent resurvey of the sixth standard parallel north (south boundary), Township 25 North, Range 27 East, accepted March 14, 2005, and officially filed March 18, 2005 for Group 886 Arizona.

This plat was prepared at the request of the Bureau of Indian Affairs, Navajo Regional Office.

The plat representing the survey of a portion of the seventh guide meridian east (west boundary), Township 29 North, Range 29 East, and the survey of the seventh standard parallel north (south boundary), Township 29 North, Range 28 East, accepted March 22, 2005, and officially filed March 29, 2005 for Group 902 Arizona.

This plat was prepared at the request of the Bureau of Indian Affairs, Navajo Regional Office.

The plat representing the dependent resurvey of a portion of the Arizona-Utah state boundary (north boundary) from the 82 mile post to the 85 mile post, a portion of the south boundary, the west boundary, and a portion of the subdivisional lines, Fractional Township 42 North, Range 2 West, accepted March 14, 2005 and officially filed March 18, 2005 for Group 905 Arizona.

This plat was prepared at the request of the Bureau of Indian Affairs, Western Region Office.

The plat representing the dependent resurvey of a portion of the subdivisional lines and the subdivision of section 20, Township 11 North, Range 4 West, accepted February 9, 2005, and officially filed February 16, 2005 for Group 907 Arizona.

This plat was prepared at the request of the Bureau of Indian Affairs, Western Region Office.

The plat representing the dependent resurvey of a portion of the tenth standard parallel north (north boundary), a portion of the first guide merdian west (west boundary), a portion of the east boundary, and a portion of the subdivisional lines and the subdivision of section 17, Township 40 North, Range 4 West, accepted March 22, 2005, and officially filed March 29, 2005 for Group 908 Arizona.

This plat was prepared at the request of the Bureau of Indian Affairs, Western Region Office.

The plat representing the dependent resurvey of a portion of the subdivisional lines and the subdivision of sections 15, 23 and 26, Township 18 North, Range 13 West, accepted February 8, 2005, and officially filed February 15, 2005 for Group 904 Arizona.

This plat was prepared at the request of the Bureau of Indian Affairs, Western Region Office.

The plat representing the dependent resurvey of a portion of the east boundary and a portion of the subdivision lines, and the subdivision of sections 12, 13 and 24, and the metes-and-bounds survey of the Aravaipa Canyon Wilderness area, Township 6 South, Range 17 East, accepted April 20, 2005, and officially filed April 28, 2005, for Group 860 Arizona.

This plat was prepared at the request of the Bureau of Land Management.

If a protest against a survey, as shown on any of the above plats is received prior to the date of official filing, the filing will be stayed pending consideration of the protest. A plat will not be officially filed until the day after all protests have been dismissed and become final or appeals from the dismissal affirmed.

A person or party who wishes to protest against any of these surveys must file a written protest with the Arizona State Director, Bureau of Land Management, stating that they wish to protest.

A statement of reasons for a protest may be filed with the notice of protest to the State Director, or the statement of reasons must be filed with the State Director within thirty (30) days after the protest is filed.

FOR FURTHER INFORMATION CONTACT: These plats will be available for inspection in the Arizona State Office, Bureau of Land Management, P.O. Box 1552, Phoenix, Arizona, 85001-1552.

Dated: May 18, 2005.
Stephen K. Hansen,
Acting Cadastral Chief.

[FR Doc. 05-11930 Filed 6-16-05; 8:45 am]

BILLING CODE 4310-32-P